FEDERAL COMMUNICATIONS COMMISSION

[FR ID: 256494]

Privacy Act of 1974; System of Records

AGENCY: Federal Communications Commission.

ACTION: Notice of a modified system of records.

SUMMARY: The Federal Communications Commission (FCC, Commission, or Agency) has modified an existing system of records, FCC/OET-1, Experimental Licensing System (ELS) (formerly “Experimental Radio Station License Files”), subject to the Privacy Act of 1974, as amended. This action is necessary to meet the requirements of the Privacy Act to publish in the Federal Register notice of the existence and character of records maintained by the Agency. The FCC's Office of Engineering and Technology (OET) uses the information in this system to determine: (a) an applicant's eligibility to operate a station in the experimental radio service; (b) the interference potential to other radio services; and/or (c) the permissibility of the applicant's proposed operations under section 5.3 of the Commission's rules.

DATES: This modified system of records will become effective on October 25, 2024. Written comments on the routine uses are due by November 25, 2024. The routine uses in this action will become effective on November 25, 2024 unless comments are received that require a contrary determination.

ADDRESSES: Send comments to Brendan McTaggart, Federal Communications Commission (FCC), 45 L Street NE, Washington, DC 20554, or to privacy@fcc.gov.

FOR FURTHER INFORMATION CONTACT: Brendan McTaggart, (202) 418-1738, or privacy@fcc.gov.

SUPPLEMENTARY INFORMATION: This notice serves to update and modify FCC/OET-1 as a result of various necessary changes and updates. The substantive changes and modifications to the previously published version of the FCC/OET-1 system of records include:

1. Renaming the system of records “Experimental Licensing System (ELS),” which is the name of the Commission's electronic filing system for licensing for the Experimental Radio service;

2. Updating language in the Authority, Categories of Individuals, Categories of Records, and Record Source Categories to document additional relevant authority, involvement of public commenters, and the current names of forms used by the Commission;

3. Adding one new routine use, (2) NTIA, to permit disclosures to the National Telecommunications and Information Administration (NTIA) for the purpose of coordinating spectrum use; and

4. Updating and/or revising language in five routine uses (listed by the routine use number provided in this notice: (3) Litigation and (4) Adjudication (now two separate routine uses); (5) Law Enforcement and Investigation; (7) Government-wide Program Management and Oversight; and (10) Non-Federal Personnel.

The system of records is also updated to reflect various administrative changes related to the system managers and system addresses; policy and practices for storage and retrieval of the information; administrative, technical, and physical safeguards; and updated notification, records access, and contesting records procedures.

SYSTEM NAME AND NUMBER:

FCC/OET-1, Experimental Licensing System (ELS).

SECURITY CLASSIFICATION:

No information in ELS is classified. Experimental license applications that contain classified material are treated in a bifurcated manner, with unclassified data filed in ELS, and the classified portion filed with the FCC's Security Operations Staff and processed consistent with the FCC's security regulations. The material filed with the Security Operations Staff is maintained separately from and does not become part of ELS.

SYSTEM LOCATION:

OET, FCC, 45 L Street NE, Washington, DC 20554.

SYSTEM MANAGER(S):

Experimental Licensing Branch, OET, FCC, 45 L Street NE, Washington, DC 20554.

AUTHORITY FOR MAINTENANCE OF THE SYSTEM:

47 U.S.C. 301, 303, 307, 308.

PURPOSE(S) OF THE SYSTEM:

FCC staff use the information in this system to determine (a) a license applicant's eligibility to operate a station in the experimental radio service; (b) the interference potential to other radio services; and/or (c) the permissibility of the applicant's proposed operations under section 5.3 of the Commission's rules. The system also permits the FCC to collect and maintain information necessary for FCC staff to perform key activities, including analyzing the effectiveness and efficiency of FCC programs and informing rule-making and policy-making activities.

CATEGORIES OF INDIVDUALS COVERED BY THE SYSTEM:

The categories of individuals in this system include individuals who have themselves, or who are associated with entities that have, applied for or have been granted a license to operate an experimental radio station under 47 CFR part 5 of the Commission's rules; and individuals who have themselves, or who are associated with entities that have, contested applications for licenses, transfers, assignments, and construction, or petitioned to deny or to cancel applicants on behalf of other parties.

CATEGORIES OF RECORDS IN THE SYSTEM:

The categories of records in this system include:

1. These FCC Forms, any supporting exhibits or documents submitted by the applicant(s) and/or licensee(s), and related documentation: (a) FCC Form 159 Remittance Advice and FCC Form 159-C Continuation Sheet; (b) FCC Form 405, Application for Renewal of Radio Station License in Specified Services; (c) FCC Form 442, Application for New or Modified Radio Station Authorization Under Part 5 of FCC Rules—Experimental Radio Service (Other than Broadcast); (d) FCC Form 702, Application for Consent to Assign an Experimental Authorization; (e) FCC Form 703, Application for Consent to Transfer Control of Corporation Holding Station License; and (f) Special Temporary Authority (STA) under 47 CFR 5.61 of the Commission's rules.

2. Personally identifiable information (PII) included in experimental project reports submitted by the applicant(s) and/or licensee(s) as required by 47 CFR part 5 of the Commission's rules, including name, mailing address, email address(es), and telephone number(s).

3. Information included in comments from other FCC bureaus/offices and the National Telecommunications and Information Administration (NTIA) on frequency interference potential, coordination of operation(s), validity of a project or experiment, and use of a project or experiment in rulemakings.

4. Contested applications for licenses, transfers, assignments, and construction, or petitions to deny or to cancel applicants on behalf of other parties.

RECORD SOURCE CATEGORIES:

The sources of information in this system of records are applicants and licensees, who provide the information on one or more FCC forms, special temporary authorities (STAs), and/or any supporting exhibits submitted by the applicants and/or licensees or other related documentation; individuals who have contested applications for licenses, transfers, assignments, and construction, or petitioned to deny or to cancel applicants on behalf of other parties; and FCC bureau and office staff and NTIA staff generating relevant data during the normal processing of the application.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows:

1. Public Access—Information from this system is posted at: https://www.fcc.gov/els for public inspection, in response to a request, and in connection with new experimentation. The information will not be disclosed if a request that the information be given confidential treatment is pending or has been granted under 47 CFR 0.459.

2. NTIA—Records from this system may be shared with the National Telecommunications and Information Administration (NTIA) for purposes of coordinating spectrum use that could affect federal government spectrum bands and their assigned users.

3. Litigation—Records may be disclosed to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the Department of Justice is for a purpose that is compatible with the purpose for which the FCC collected the records.

4. Adjudication—Records may be disclosed in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

5. Law Enforcement and Investigation—When the FCC investigates any violation or potential violation of a civil or criminal law, regulation, policy, executed consent decree, order, or any other type of compulsory obligation and determines that a record in this system, either alone or in conjunction with other information, indicates a violation or potential violation of law, regulation, policy, consent decree, order, or other compulsory obligation, the FCC may disclose pertinent information as it deems necessary to the target of an investigation, as well as with the appropriate Federal, State, local, Tribal, international, or multinational agencies, or a component of such an agency, responsible for investigating, prosecuting, enforcing, or implementing a statute, rule, regulation, or order.

6. Congressional Inquiries—Records may be provided to a Congressional office in response to an inquiry made at the written request of the individual to whom the records pertain.

7. Government-wide Program Management and Oversight—Records may be disclosed to DOJ to obtain that department's advice regarding disclosure obligations under the Freedom of Information Act (FOIA); or to the Office of Management and Budget (OMB) to obtain that office's advice regarding obligations under the Privacy Act.

8. Breach Notification—Records may be disclosed to appropriate agencies, entities, and persons when: (a) The Commission suspects or has confirmed that there has been a breach of the system of records; (b) the Commission has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

9. Assistance to Federal Agencies and Entities Related to Breaches—Records may be disclosed to another Federal agency or Federal entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

10. Non-Federal Personnel—Records may be disclosed to non-Federal personnel, including contractors, other vendors (e.g., identity verification services), grantees, and volunteers who have been engaged to assist the FCC in the performance of a service, grant, cooperative agreement, or other activity related to this system of records and who need to have access to the records in order to perform their activity.

POLICIES AND PRACTICES FOR STORAGE OF RECORDS:

Electronic records in this system reside on the FCC or a vendor's network.

POLICIES AND PRACTICES FOR RETRIEVAL OF RECORDS:

Records can be retrieved by, among other things, the licensee name. If there is more than one station per licensee, then the files may be also retrieved by call sign. Scanned images, electronic records of data elements, and electronic copies of licenses may be retrieved from the OET Experimental Licensing Branch Report electronic filing and reporting website using various search fields, including name and call sign, at: https://apps.fcc.gov/els.

POLICIES AND PRACTICES FOR RETENTION AND DISPOSAL OF RECORDS:

The information in this system is maintained and disposed of in accordance with the National Archives and Records Administration (NARA) Records Schedule DAA-0173-2016-0003, Experimental Licensing System (ELS).

ADMINISTRATIVE, TECHNICAL, AND PHYSICAL SAFEGUARDS:

OET makes all records available to the public at: https://www.fcc.gov/els, except files that have been submitted in compliance with the confidentiality request requirement of 47 CFR 0.459. When not publicly available, the electronic records, files, and data are stored within FCC or a vendor's accreditation boundaries and maintained in a database housed in the FCC's or vendor's computer network databases. Access to the electronic files is restricted to authorized employees and contractors; and to IT staff, contractors, and vendors who maintain the IT networks and services. Other employees and contractors may be granted access on a need-to-know basis. The electronic files and records are protected by the FCC and third-party privacy safeguards, a comprehensive and dynamic set of IT safety and security protocols and features that are designed to meet all Federal privacy standards, including those required by the Federal Information Security Modernization Act of 2014 (FISMA), the Office of Management and Budget (OMB), and the National Institute of Standards and Technology (NIST).

RECORDS ACCESS PROCEDURES:

Individuals wishing to request access to and/or amendment of records about themselves should follow the Notification Procedures below.

CONTESTING RECORD PROCEDURES:

Individuals wishing to request an amendment of records about themselves should follow the Notification Procedures below.

NOTIFICATION PROCEDURES:

Individuals wishing to determine whether this system of records contains information about themselves may do so by writing to privacy@fcc.gov. Individuals requesting access must also comply with the FCC's Privacy Act regulations regarding verification of identity to gain access to the records (47 CFR part 0, subpart E).

EXEMPTIONS PROMULGATED FOR THE SYSTEM:

None.

HISTORY:

84 FR 27115 (June 11, 2019).

Federal Communications Commission.
Marlene Dortch,
Secretary.

[FR Doc. 2024-24892 Filed 10-24-24; 8:45 am]

BILLING CODE 6712-01-P